DEPARTMENT OF HOUSING AND URBAN DEVELOPMENT

[Docket No. FR-5755-N-01]

60-Day Notice of Proposed Information Collection: Comment Request; Ginnie Mae Mortgage-Backed Securities Guide 5500.3, Revision 1 (Forms and Electronic Data Submissions)

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: February 9, 2015.

ADDRESSES: Interested persons are invited to submit comments regarding this proposal. Comments should refer to the proposal by name and/or OMB Control Number and should be sent to: Colette Pollard, Q, Administrator Support Specialist, Department of Housing and Urban Development, 451 7th Street SW., Room 4160, Washington, DC 20410; email Colette.Pollard@hud.gov; telephone (202) 708-0306, ext. 3400. This is not a toll-free number. Copies of available documents submitted to OMB may be obtained from Ms. Pollard.

FOR FURTHER INFORMATION CONTACT: Debra Murphy, Ginnie Mae, 451 7th Street SW., Room B-133, Washington, DC 20410; email—Debra.L.Murphy@hud.gov; telephone—(202) 475-4923; fax—(202) 485-0225 (this is not a toll-free number); Merlene Hawkins, Ginnie Mae, 451 7th Street SW., Room B-133, Washington, DC 20410; email—Merlene.Hawkins@hud.gov; telephone—(202) 475-4916; fax—(202) 485-0225 (this is not a toll-free number); or the Ginnie Mae Web site at www.ginniemae.gov for other available information.

SUPPLEMENTARY INFORMATION: The Department will submit the proposed information collection to OMB for review required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden hours of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Mortgage-Backed Securities Guide 5500.3, Revision 1 (Forms and Electronic Data Submissions).

OMB Control Number, if applicable: 2503-0033.

Description of the need for the information and proposed use:

Ginnie Mae's Mortgage-Backed Securities Guide 5500.3, Revision 1 (“Guide”) provides instructions and guidance to participants in the Ginnie Mae Mortgage-Backed Securities (“MBS”) programs (“Ginnie Mae I and Ginnie Mae II”). Under the Ginnie Mae I program, securities are backed by single-family or multifamily loans. Under the Ginnie Mae II program securities are only backed by single-family loans. Both the Ginnie Mae I and II MBS are modified pass-through securities. The Ginnie Mae II multiple Issuer MBS is structured so that small issuers, who do not meet the minimum number of loans and dollar amount requirements of the Ginnie Mae I MBS, can participate in the secondary mortgage market. In addition, the Ginnie Mae II MBS permits the securitization of adjustable rate mortgages (“ARMs”).

Description of Proposed New Requirements:

Due to the acceleration of non-depository issuers entering in the Ginnie Mae program, regulatory changes and changes to the insuring/guarantying agencies programs, Ginnie Mae is expanding its data collection and disclosure processes.

ARM Pools:

In order to verify that loans backing Ginnie Mae ARM pools meet the new 45 day look back period, Ginnie Mae will be collecting two new data elements. One new data element will be completed on the HUD Form 11705 at issuance. This will be a look-back period data element which will be a drop down selection of either 30 days or 45 days. The second new data will be completed on the HUD Form 11706 for ARMS pools only at this time. This will be the loan origination date (name will be changed to Note Date at a later time).

MISMO:

Ginnie Mae is implementing a new pool delivery data set using MISMO standard data definitions with respect to Single Family Issuances. This will include the addition of 16 new data points, of which three will be required, three will be conditionally required and the remaining eleven will be optional. The data points are as follows:

Required New Data Points:

Construction Method Typ.. MH), Amortization Type & Note Date (name changed from loan origination date and will be for all pools).

Conditionally Required New Data Points:

Down Payment Amount, Loan Modification Effective Date & Suffix Name

Optional New Data Points:

Construction Method Type (other than MH), Property Valuation Amount, Property Valuation Effective Date, Purchase Price Amount, Guaranty Amount (if VA), Guaranty Percent (if VA), Middle Name, Full Name, Curtailment Data Points (Monetary Event Applied Date, Monetary Event Gross Principal Amount & Monetary Event Type).

Loan Level:

Ginnie Mae is proposing the collection of additional data elements at the loan level to supplement the monthly reporting collection of data. The additional data elements are being added to provide Ginnie Mae greater oversight of its program participants and will be collected as part of the monthly reporting submission. The proposed additional new data elements are as follows:

Bankruptcy Action Type, Bankruptcy Case Identifier, Bankruptcy Chapter Type, Bar Date, Bar Date, Borrower Bankruptcy Indicator, Borrower Classification Type, Borrower Total Mortgaged Properties Count, Counseling Initiated Indicator, Credit Score Date, Document Custodian ID, Insurance Claim Coverage Type, Investor UPB, Adjustment to Investor UPB, Prospective Note Rate, Prospective P&I (FIC), Effective Date of Rate Change, Lien Holder Type, Net Note Rate, Servicer Transfer Effective Date, Servicer Type, Loan P&I Institution ID and Account Number, Loan Ti(Institution ID and Account Number, Sub-Servicer ID, Sub & Servicer Rights Type and Total Subordinate Financing Amount.

New Issuer Applications:

Ginnie has automated its new issuer the application process used to approval. The new automated process requires applicants to complete two online courses through Ginnie Mae Online University.

HMBS:

Ginnie Mae will be expanding its data collection at issuance in order to enhance data disclosures.

The addition of the new data elements are the reason for the increase of burden hours. Please see the below link for more information regarding the additional data elements. http://www.ginniemae.gov/products programs/Pages/Federal Register Notice.aspx

There are 15 forms and appendices in our collection which are volume driven rather than participant driven: These have increased as our portfolio has grown.

Included in the Guide are the appendices, forms, and documents necessary for Ginnie Mae to properly administer its MBS programs.

Agency form numbers: 11700, 11701, 11702, 11704, 11705, 11706, 11707, 11708, 11709, 11709-A, 11710A, 1710-B, 1710-C, 11710D, 11710E, 11711-A, 11711-B, 11714, 11714-SN, 11720, 11715, 11732, 11785.

While most of the calculations are based on number of respondents multiplied by the frequency of response, there are several items whose calculations are based on volume.

Form | Appendix No. | Title | Number of respondents | Frequency of responses per year | Total annual responses | Hours per response | Total annual hours
11700 | 11-1 | Letter of Transmittal | 329 | 4 | 1200 | 0.033 | 43.4
11701 | 1-1 | Application for Approval Ginnie Mae Mortgage-Backed Securities Issuer | 100 | 1 | 100 | .3 | 300.0
11702 | 1-2 | Resolution of Board of Directors and Certificate of Authorized Signatures | 454 | 1 | 454 | 0.08 | 36.3
11703- | 1-7 | Master Agreement for Participation Accounting | 14 | 1 | 14 | 0.08 | 1.1
11704 | 11-2 | Commitment to Guaranty Mortgage-Backed Securities | 329 | 4 | 1316 | 0.033 | 43.4
11707 | 111-1 | Master Servicing Agreement | 468 | 1 | 468 | 0.033 | 15.4
11709 | 111-2 | Master Agreement for Servicer's Principal and Interest Custodial Account | 468 | 1 | 468 | 0.033 | 15.4
11715 | 111-4 | Master Custodial Agreement | 468 | 1 | 468 | 0.033 | 15.4
11720 | 111-3 | Master Agreement for Servicer's Escrow Custodial Account | 468 | 1 | 468 | 0.033 | 15.4
11732 | 111-22 | Custodian's Certification for Construction Securities | 55 | 1 | 55 | 0.016 | 0.9
| IX-1 | Financial Statements and Audit Reports | 468 | 1 | 468 | 1 | 468 0
|  | Mortgage Bankers Financial Reporting Form | 315 | 4 | 1260 | 0.5 | 630.0
11709-A | 1-6 | ACH Debit Authorization | 468 | 1 | 468 | 0.033 | 15.4
11710 D | VI-5 | Issuer's Monthly Summary Reports | 315 | 12 | 3780 | 0.13 | 491.4
11710A, 1710B, 1710C & 11710E | VI-12 | Issuer's Monthly Accounting Report and Liquidation Schedule | 315 | 1 | 315 | 0.13 | 41.0
11710-DH | VI-21 | HMBS Issuer's Monthly Summary Report | 14 | 12 | 168 | 0.13 | 21.8
| 111-13 | Electronic Data Interchange System Agreement | 100 | 1 | 100 | 1 | 100.0
| 111-14 | Enrollment Administrator Signatories for Issuers and Document Custodians | 100 | 1 | 100 | 1 | 100.0
| 1-4 | Cross Default Agreement | 10 | 1 | 10 | 0.05 | 0.5
| VI-18 | WHFIT Reporting | 329 | 4 | 1316 | 0.13 | 171.0
| 111-29 | Enterprise Portal (GMEP) Registration Forms | 100 | 1 | 100 | 1 | 100.0
| VIII-1 | Ginnie Mae Acknowledgement Agreement and Accompanying Documents Pledge of Servicing | 10 | 1 | 10 | 1 | 10
| VI-19 | Monthly Pool and Loan Level Report (RFS) | 300 | 12 | 3600 | 0.13 | 468.0
The burden for the Items listed below is based on volume and/or number of requests.
11705 | 111-6 | Schedule of Subscribers and Ginnie Mae Guaranty Agreement | 315 | 12 | 42000 | 0.05 | 2100.0
11706 | 111-7 | Schedule of Pooled Mortgages | 315 | 12 | 42000 | 0 08 | 97440.0
11705H | 111-28 | Schedule of Subscribers and Ginnie Mae Guaranty Agreement—HMBS Pooling-Import File Layout | 14 | 12 | 960 | 0.05 | 48
11708 | V-5 | Document Release | 329 | 1 | 329 | 0.05 | 16.5
| XI-6, XI-8, XI-9 | Soldiers' and Sailors' Quarterly Reimbursement Request and SSCRA Loan Eligibility Information | 32 | 4 | 8000 | 0.033 | 1056.0
11711A and 11711B | 111-5 | Release of Security Interest and Certification and Agreement | 329 | 1 | 678000 | 0.05 | 33900.0
11714 and 11714SN | VI-10, VI-11 | Issuer's Monthly Remittance Advice and Issuer's Monthly Serial Note Remittance Advice | 329 | 12 | 56400 | 0.016 | 10828.8
| VI-2 | Letter for Loan Repurchase | 315 | 12 | 600 | 0.033 | 237.6
| V11-1 | Collection of Remaining Principal Balances | 315 | 12 | 4800000 | 0.033 | 158400.0
| 111-21 | Certification Requirements for the Pooling of Multifamily Mature Loan Program | 298 | 1 | 29811 | 0.05 | 14.9
| VI-9 | Request for Reimbursement of Mortgage Insurance Claim Costs for Multifamily | 21 | 1 | 21 | 0.25 | 5.3
| VIII-3 | Assignment Agreements | 67 | 1 | 67 | 0.13 | 8.7
| 111-9 | Authorization to Accept Facsimile Signed Correction Request Forms | 329 | 12 | 128 | 0.016 | 2.0
| VI-17 | HMBS Issuer Specification for MBSAA | (¹) 14 | 12 | 38,400 | 0.13 | 4992.0
Total |  |  |  | (²) | 10,481,385 | (²) | 2,617,654
¹ Pooling & Report.
² Varies.

Authority: Section 3506 of the Paperwork Reduction Act of 1995, 44 U.S.C. Chapter 35, as amended.

Dated: October 23, 2014.
Mary K. Kinney,
Executive Vice President, Government National Mortgage Association.

[FR Doc. 2014-26647 Filed 11-7-14; 8:45 am]

BILLING CODE 4210-67-P